DEPARTMENT OF LABOR

Employment and Training Administration

[TA-W-40,794]

Frederick Goldman, New York, New York; Notice of Termination of Investigation

Pursuant to Section 221 of the Trade Act of 1974, an investigation was initiated on February 11, 2002, in response to a petition filed by workers on behalf of all workers at Frederick Goldman, New York, New York.

The petition group of workers is under an existing investigation for which a determination has not been issued (TA-W-40,774). Consequently, further investigation in this case would serve no purpose, and the investigation has been terminated.

Signed in Washington, DC this 4th day of March, 2002.
Linda G. Poole,
Certifying Officer, Division of Trade Adjustment Assistance.

[FR Doc. 02-7600 Filed 3-28-02; 8:45 am]

BILLING CODE 4510-30-M